DEPARTMENT OF HEALTH AND HUMAN SERVICES

Health Resources and Services Administration

Advisory Commission on Childhood Vaccines Meeting; Correction

AGENCY: Health Resources and Services Administration (HRSA), Department of Health and Human Services.

ACTION: Notice; correction.

SUMMARY: HRSA published a notice in the Federal Register on October 12, 2023, concerning the 2024 calendar year meetings of the Advisory Commission on Childhood Vaccines (ACCV). The meeting times have changed. The 2024 ACCV meetings will be held from 1 p.m. eastern time (ET)-4 p.m. ET instead of from 10 a.m.-4 p.m.

FOR FURTHER INFORMATION CONTACT: Pita Gomez, Principal Staff Liaison, Division of Injury Compensation Programs, HRSA, 5600 Fishers Lane, 8W-25A, Rockville, Maryland 20857; 800-338-2382; or ACCV@hrsa.gov.

SUPPLEMENTARY INFORMATION:

Correction

In the Federal Register of October 12, 2023, FR Doc. 2023-22584, page 70680, column 2, correct the Dates caption to read: “The ACCV meetings will be held on:

• March 7, 2024, 1 p.m. ET-4 p.m. ET;

• March 8, 2023, 1 p.m. ET-4 p.m. ET;

• September 5, 2023, 1 p.m. ET-4 p.m. ET;

• September 6, 2023, 1 p.m. ET-4 p.m. ET.”

Maria G. Button,
Director, Executive Secretariat.

[FR Doc. 2024-02106 Filed 2-1-24; 8:45 am]

BILLING CODE 4165-15-P